DEPARTMENT OF DEFENSE

Office of the Secretary

Proposed Collection; Comment Request

AGENCY: Office of the Assistant Secretary of Defense for Health Affairs, DoD.

ACTION: Notice.

In accordance with section 3506(c)(2)(A) of the Paperwork Reduction Act of 1995, the Office of the Assistant Secretary of Defense for Health Affairs announces the proposed extension of a public information collection and seeks public comment on the provisions thereof. Comments are invited on: (a) Whether the proposed collection of information is necessary for the proper performance of the functions of the agency, including whether the information shall have practical utility; (b) the accuracy of the agency's estimate of the burden of the information collection; (c) ways to enhance the quality, utility, and clarity of the information to be collected; and (d) ways to minimize the burden of information collection on respondents, including through the use of automated collection techniques or other forms of information technology.

DATES: Consideration will be given to all comments received October 16, 2001.

ADDRESSES: Written comments and recommendations on the information collection should be sent to LTC Thomas V. Williams, Ph.D., M.S., U.S.A., Dir., Program Evaluation TRICARE Management Activity; HPA&E, 5111 Leesburg Pike, Suite 810, Falls Church, VA 22041.

FOR FURTHER INFORMATION CONTACT: Please refer to the information cited above.

Title, Associated Form, and OMB Number: Military Health System (MHS) Provider Survey in Military Treatment Facilities (MTF).

Needs and Uses: The purpose of this project is to design and pilot test a survey of direct care providers within Region 1 followed by a full deployment of the survey in future years. The MHS Provider Survey is intended to provide Department of Defense (DoD) with data that contributes to the delivery of high quality healthcare. The perspective of prescriptive providers has not been collected systematically despite their important role in delivering care within the constraints of limited resources and complicated guidelines. The first goal of this work is to gain insight of direct care providers who provide care at MTFs regarding the challenges associated with treating patients under TRICARE. A survey instrument is needed that will capture information regarding provider opinions of how well TRICARE helps them provide patients with needed care. It will identify how administrative policies and practices of TRICARE health plan effect healthcare delivery. A second goal of this work is to collect information that indicates how the attitudes and opinions of physicians differ by specialty, region, and degree of participation with TRICARE. The survey data shall provide information needed to better plan, deliver, and evaluate health care services provided in the military health system (MHS).

Affected Public: Individuals—Healthcare Providers in Military Treatment Facilities.

Annual Burden Hours: 666.

Number of Respondents: 2000.

Responses Per Respondent: 1 per person.

Average Burden Per Response: 20 minutes per survey.

Frequency: One Time.

SUPPLEMENTARY INFORMATION:

Summary of Information Collection

This request encompasses all activities required to develop, pilot test and implement an instrument to assess the attitudes and opinions of MHS prescriptive providers regarding their ability to provide high quality care. Of particular interest is how TRICARE and other organizational factors contribute to the effort to practice medicine in the MHS.

The survey will be designed to collect information from direct care TRICARE providers, focusing on providers who are licensed to practice independently. The provider groups surveyed will include physicians, nurse practitioners, physician assistants, and independent duty corpsmen all of whom are affiliated with Department of Defense (DoD) MTFs. Westat will conduct the information, analyze the results, and generate a report for the government. Activities include the collection and analyses of information obtained confidentially from providers (physicians, physician assistants, independent duty corpsmen, and nurse practitioners) within MTFs.

Dated: August 13, 2001.
Patricia L. Toppings,
Alternate OSD Federal Register Liaison Officer, Department of Defense.

[FR Doc. 01-20742 Filed 8-16-01; 8:45 am]

BILLING CODE 5001-08-M